NUCLEAR REGULATORY COMMISSION

10 CFR Parts 170 and 171

RIN 3150-AH61

Revision of Fee Schedules; Fee Recovery for FY 2005

AGENCY: Nuclear Regulatory Commission.

ACTION: Final rule; correction.

SUMMARY: This document corrects a final rule appearing in the Federal Register on May 26, 2005 (70 FR 30526) concerning the licensing, inspection, and annual fees charged to NRC applicants and licensees in compliance with the Omnibus Budget Reconciliation Act of 1990, as amended. This action is necessary to correct typographical and printing errors.

EFFECTIVE DATE: July 25, 2005.

FOR FURTHER INFORMATION CONTACT: Tammy Croote, telephone 301-415-6041; Office of the Chief Financial Officer, U.S. Nuclear Regulatory Commission, Washington, DC 20555-0001.

SUPPLEMENTARY INFORMATION: 1. On page 30531, in the first column, under Response, in the fourteenth line, the word “commenters?” is corrected to read “commenters.”

2. On page 30535, in the second column, under 4. Charging Fees for Unlicensed Sites in Decommissioning, in the eleventh line, the word “licensees?” is corrected to read “licensees.”

3. On page 30537, in TABLE III.—REBASELINED ANNUAL FEES FOR FY 2005, the first number under the FY 2005 Annual Fee column “$3,115,000” is corrected to read “$3,155,000.”

4. On page 30540, in the second column, in the fourth line of the continued paragraph under Table VIII, the number “$2,966,000” is corrected to read “$2,996,000.” Also, in the tenth line in the same paragraph, the number “$3,115,000” is corrected to read “$3,155,000.”

PART 170—[AMENDED]

§ 170.31 [Corrected]

5. On page 30547, in § 170.31, in the table entitled SCHEDULE OF MATERIALS FEES, the Category of materials licenses and type of fees column entry for 14.B. “(insert date 1 year from effective date of final rule)” is corrected to read “July 25, 2006.”

PART 171—[AMENDED]

§ 171.15 [Corrected]

6. On page 30548, in § 171.15(b)(1), the number “$3,115,000” is corrected to read “$3,155,000.”

§ 171.16 [Corrected]

7. In § 171.16 (c), the table entitled SCHEDULE OF MATERIALS ANNUAL FEES AND FEES FOR GOVERNMENT AGENCIES LICENSED BY NRC, the Annual Fees column entry for 15. C. On page 30552, the entry “0N/A⁸” is corrected to “⁸ N/A.”

Dated in Rockville, Maryland, this 2nd day of June, 2005.
For the Nuclear Regulatory Commission.
Jesse L. Funches,
Chief Financial Officer.

[FR Doc. 05-11495 Filed 6-9-05; 8:45 am]

BILLING CODE 7590-01-P